GENERAL SERVICES ADMINISTRATION

[Notice-MV-2016-01; Docket No. 2016-0002; Sequence No. 9]

Public Availability of General Services Administration Fiscal Year 2015 Service Contract Inventory

AGENCY: General Services Administration (GSA).

ACTION: Notice of public availability of GSA Fiscal Year 2015 Service Contract Inventories.

SUMMARY: In accordance with The Fiscal Year (FY) 2010 Consolidated Appropriations Act, GSA is publishing this notice to advise the public of the availability of the FY 2015 Service Contract Inventories.

DATES: July 22, 2016.

FOR FURTHER INFORMATION CONTACT: Questions regarding the Service Contract Inventory should be directed to Mr. James Tsujimoto, Office of Acquisition Policy, at 202-206-3585, or james.tsujimoto@gsa.gov.

SUPPLEMENTARY INFORMATION: In accordance with section 743 of Division C of the FY 2010 Consolidated Appropriations Act (Pub. L. 111-117), GSA is publishing this notice to advise the public of the availability of the FY 2015 Service Contract Inventories. These inventories provide information on service contract actions over $25,000 that were made in FY 2015. The information is organized by component to show how contracted resources are distributed throughout the agency. The inventory has been developed in accordance with the guidance issued on December 19, 2011, by the Office of Management and Budget's Office of Federal Procurement Policy (OFPP). OFPP's guidance is available at: http://www.whitehouse.gov/sites/default/files/omb/procurement/memo/service-contract-inventory-guidance. GSA has posted its inventory and a summary of the inventory at the following location: http://www.gsa.gov/gsasci.

Jeffrey A. Koses,
Director, Office of Acquisition Policy, Office of Government-wide Policy.

[FR Doc. 2016-17347 Filed 7-21-16; 8:45 am]

BILLING CODE 6820-61-P